DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the name of one person that has been placed on OFAC's Specially Designated Nationals and Blocked Persons List based on OFAC's determination that one or more applicable legal criteria were satisfied. All property and interests in property subject to U.S. jurisdiction of this person is blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On March 30, 2023, OFAC determined that the property and interests in property subject to U.S. jurisdiction of the following person is blocked under the relevant sanctions authority listed below.

Individual

1. MKRTYCHEV, Ashot (a.k.a. MKRTYCEV, Asot), Hana Melichkova Street 3448/37, Bratislava 84105, Slovakia; DOB 07 May 1966; POB Baku, Azerbaijan; citizen Slovakia; Gender Male; Secondary sanctions risk: North Korea Sanctions Regulations, sections 510.201 and 510.210; Transactions Prohibited For Persons Owned or Controlled By U.S. Financial Institutions: North Korea Sanctions Regulations section 510.214; Passport BD3843329 (Slovakia) expires 08 Apr 2029; alt. Passport BD5609822 (Slovakia) expires 19 May 2024 (individual) [DPRK].

Designated pursuant to section 1(a)(ii)(G) of Executive Order 13551, “Blocking Property of Certain Persons With Respect to North Korea” (E.O. 13551), for having attempted to engage in activities described in section 1(a)(ii)(A) of E.O. 13551.

Authority: E.O. 13551, 75 FR 53837, 3 CFR, 2010 Comp., p.242.

Dated: March 30, 2023.
Andrea Gacki,
Director, Office of Foreign Assets Control, U.S. Department of the Treasury.

[FR Doc. 2023-06976 Filed 4-3-23; 8:45 am]

BILLING CODE 4810-AL-P